DEPARTMENT OF TRANSPORTATION

Saint Lawrence Seaway Development Corporation

33 CFR Part 401

[Docket No. SLSDC 2006-26397]

RIN 2135-AA24

Seaway Regulations and Rules: Periodic Update, Various Categories

AGENCY: Saint Lawrence Seaway Development Corporation, DOT.

ACTION: Notice of proposed rulemaking.

SUMMARY: The Saint Lawrence Seaway Development Corporation (SLSDC) and the St. Lawrence Seaway Management Corporation (SLSMC) of Canada, under international agreement, jointly publish and presently administer the St. Lawrence Seaway Regulations and Rules (Practices and Procedures in Canada) in their respective jurisdictions. Under agreement with the SLSMC, the SLSDC is amending the joint regulations by updating the Seaway Regulations and Rules in various categories. The proposed changes will update the following sections of the Regulation and Rules: Condition of Vessels; Preclearance and Security for Tolls; Seaway Navigation; Dangerous Cargo; and, General. These proposed amendments are necessary to take account of updated procedures and will enhance the safety of transits through the Seaway. Several of the proposed amendments are merely editorial or for clarification of existing requirements.

DATES: Any party wishing to present views on the proposed amendment may file comments with the Corporation on or before January 3, 2007.

ADDRESSES: You may submit comments [identified by DOT DMS Docket Number SLSDC 2006-26397] by any of the following methods:

• Web site: http://dms.dot.gov. Follow the instructions for submitting comments on the DOT electronic docket site.

• Fax: 1-202-493-2251.

• Mail: Docket Management Facility; U.S. Department of Transportation, 400 Seventh Street, SW., Nassif Building, Room PL-401, Washington, DC 20590-001.

• Hand Delivery: Room PL-401 on the plaza level of the Nassif Building, 400 Seventh Street, SW., Washington, DC, between 9 a.m. and 5 p.m., Monday through Friday, except Federal Holidays.

• Federal eRulemaking Portal: Go to http://www.regulations.gov. Follow the online instructions for submitting comments.

Instructions: All submissions must include the agency name and docket number or Regulatory Identification Number (RIN) for this rulemaking. Note that all comments received will be posted without change to http://dms.dot.gov, including any personal information provided. Please see the Privacy Act heading under Regulatory Notices.

Docket: For access to the docket to read background documents or comments received, go to http://dms.dot.gov at any time or to Room PL-401 on the plaza level of the Nassif Building, 400 Seventh Street, SW., Washington, DC, between 9 a.m. and 5 p.m., Monday through Friday, except Federal holidays.

FOR FURTHER INFORMATION CONTACT: Craig H. Middlebrook, Acting Chief Counsel, Saint Lawrence Seaway Development Corporation, 400 Seventh Street, SW., Washington, DC 20590, (202) 366-0091.

SUPPLEMENTARY INFORMATION: The Saint Lawrence Seaway Development Corporation (SLSDC) and the St. Lawrence Seaway Management Corporation (SLSMC) of Canada, under international agreement, jointly publish and presently administer the St. Lawrence Seaway Regulations and Rules (Practices and Procedures in Canada) in their respective jurisdictions. Under agreement with the SLSMC, the SLSDC is proposing to amend the joint regulations by updating the Regulations and Rules in various categories. The proposed changes would update the following sections of the Regulations and Rules: Condition of Vessels; Preclearance and Security for Tolls; Seaway Navigation; Dangerous Cargo; and, General. These updates are necessary to take account of updated procedures which will enhance the safety of transits through the Seaway. Many of these proposed changes are to clarify existing requirements in the regulations. Where new requirements or regulations are being proposed, an explanation for such a change is provided below.

Regulatory Notices: Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

The SLSDC is proposing to make one clarification to the Interpretation section of the joint Seaway regulations. Under Section 401.2, “Interpretation', after the definition of Seaway station, the SLSDC is proposing to add a reference to section 401.62, “Seaway stations” for a list and location of the specific Seaway stations. In terms of Notice and Arrival requirements for vessels transiting the Seaway pursuant to section 401.79, “Advance notice of arrival, vessels requiring inspection”, there has been some confusion regarding the location of the nearest Seaway station. Inserting a reference to the list of Seaway Stations in the definition would aid in clarifying the location to which a vessel must provide its 96 hours notice of arrival.

The SLSDC is proposing to make two amendments to the joint regulations pertaining to the Condition of Vessels. Under section 401.8, “Landing booms”, the SLSDC is proposing to require vessels that are equipped with landing booms, but not using them, to use the Seaway's tie-up service at approach walls. This proposed amendment will clarify which vessels are required to use the Seaway's tie-up service. Under section 401.12, “Minimum requirements—mooring lines and fairleads”, the SLSDC is proposing to provide flexibility to Seaway ship inspectors' ability to require an alternate mooring arrangement when a vessel cannot comply with the Seaway regulation due to design or other factors.

Two amendments to the joint regulations regarding Preclearance and Security for Tolls are proposed. The proposed amendment to section 401.22, “Preclearance of vessels”, would provide flexibility to an officer to preclear a vessel, such as a large private yacht or “Tall Ship” that would not be able to moor at the pleasure craft docks because of its unusual design and requirements for inspection. Section 401.24, “Application for Preclearance”, is being revised to eliminate the requirement that a representative of a vessel must submit 3 copies of a preclearance form since the Manager no longer issues 3 copies of the form.

The SLSDC is proposing two amendments to the joint regulations pertaining to Seaway Navigation. Under section 401.40, “Entering a lock”, the SLSDC is proposing to rename the section and add language to make it clear that no vessel shall exit a lock in a manner that results in the stern passing the stop symbol on the lock wall nearest the closed gates. There have been instances in which vessels, when required to maintain position in a lock or upon entering or departing a lock, have drifted astern resulting in damage to Seaway property. This amendment would require a vessel entering, exiting or maintaining its position in a lock to adhere to firmly established Seaway procedures. Under section 401.58, “Pleasure craft scheduling”, language is proposed to clarify that the requirement to use the automated ticket dispensers only applies to vessels transiting Canadian locks since there are no automated ticket dispensers at the U.S. locks.

The SLSDC is proposing to make several clarifying/editorial changes in the joint Seaway regulations pertaining to Dangerous Cargo. Proposed language throughout the following sections: 401.68, “Explosives Permission Letter”; 401.70, “Fendering—explosive and hazardous cargo vessels”; and, 401.72, “Reporting—explosive and hazardous cargo vessels”, would clarify that the Seaway(s) issue Seaway Explosives Permission Letters rather than permits.

In the regulations pertaining to general requirements, the SLSDC proposes one amendment. Under section 401.93, “Access to Seaway property,” the word “swim “ would be removed in order to clarify that a person may not enter any Seaway canal or lock area regardless of the method of entry.

Regulatory Evaluation

This proposed regulation involves a foreign affairs function of the United States and therefore Executive Order 12866 does not apply and evaluation under the Department of Transportation's Regulatory Policies and Procedures is not required.

Regulatory Flexibility Act Determination

I certify this proposed regulation will not have a significant economic impact on a substantial number of small entities. The St. Lawrence Seaway Regulations and Rules primarily relate to commercial users of the Seaway, the vast majority of whom are foreign vessel operators. Therefore, any resulting costs will be borne mostly by foreign vessels.

Environmental Impact

This proposed regulation does not require an environmental impact statement under the National Environmental Policy Act (49 U.S.C. 4321, et reg.) because it is not a major federal action significantly affecting the quality of the human environment.

Federalism

The Corporation has analyzed this proposed rule under the principles and criteria in Executive Order 13132, dated August 4, 1999, and has determined that this proposal does not have sufficient federalism implications to warrant a Federalism Assessment.

Unfunded Mandates

The Corporation has analyzed this proposed rule under Title II of the Unfunded Mandates Reform Act of 1995 (Pub. L. 104-4, 109 Stat. 48) and determined that it does not impose unfunded mandates on State, local, and tribal governments and the private sector requiring a written statement of economic and regulatory alternatives.

Paperwork Reduction Act

This proposed regulation has been analyzed under the Paperwork Reduction Act of 1995 and does not contain new or modified information collection requirements subject to the Office of Management and Budget review.

List of Subjects in 33 CFR Part 401

Hazardous materials transportation, Navigation (water), Penalties, Radio, Reporting and recordkeeping requirements, Vessels, Waterways.

Accordingly, the Saint Lawrence Seaway Development Corporation proposes to amend 33 CFR Part 401, Regulations and Rules, as follows:

PART 401—SEAWAY REGULATIONS AND RULES

Subpart A—Regulations

1. The authority citation for subpart A of part 401 continues to read as follows:

Authority: 33 U.S.C. 983(a) and 984(a)(4), as amended; 49 CFR 1.52, unless otherwise noted.

2. In § 401.2 paragraph (k) would be revised to read as follows:

§ 401.2 Interpretation.

* * * * *

(k) Seaway Station means a radio station operated by the Corporation or the Manager. (See 401.62. Seaway Stations for the list and location of stations).

* * * * *

3. In § 401.8 paragraph (c) would be revised to read as follows:

§ 401.8 Landing booms.

* * * * *

(c) Vessels not equipped with or not using landing booms must use the Seaway's tie-up service at approach walls.

4. Section 401.12 paragraph (a) introductory text would be revised to read as follows:

§ 401.12 Minimum requirements—mooring lines and fairleads.

(a) Minimum requirements in respect of mooring lines, which shall be available for securing on either side of the vessel, winches, and the location of fairleads on vessels are as follows unless otherwise permitted by the officer:

* * * * *

5. In § 401.22 paragraph (c) would be revised to read as follows:

§ 401.22 Preclearance of vessels.

* * * * *

(c) A non-commercial vessel of 300 gross registered tonnage or less cannot apply for preclearance status and must transit as a pleasure craft unless otherwise permitted by an officer.

6. § 401.24 will be revised as follows:

§ 401.24 Application for preclearance.

The representative of a vessel may, on a preclearance form obtained from the Manager, St. Lambert, Quebec, or downloaded from the St. Lawrence Seaway Web site at http://www.greatlakes-seaway.com, apply for preclearance, giving particulars of the ownership, liability insurance and physical characteristics of the vessel and guaranteeing payment of the fees that may be incurred by the vessel.

7. In § 401.40 the section heading will be revised, paragraphs (b) and (c) will be redesignated as paragraphs (c) and (d), respectively, and a new paragraph (b) will be added to read as follows:

§ 401.40 Entering, Exiting or Position in a Lock.

* * * * *

(b) No vessel shall depart a lock in such a manner that the stern passes the stop symbol on the lock wall nearest the closed gates.

* * * * *

8. In § 401.58 paragraph (b) is revised to read as follows:

§ 401.58 Pleasure craft scheduling.

* * * * *

(b) Every pleasure craft seeking to transit Canadian Locks shall stop at a pleasure craft dock and arrange for transit by contacting the lock personnel using the direct-line phone and make the lockage fee payment by purchasing a ticket using the automated ticket dispensers.

9. In § 401.68, the section heading and paragraphs (a) introductory text, (b), (c), and (d) are revised to read as follows:

§ 401.68 Explosives Permission Letter.

(a) A Seaway Explosives Permission Letter is required for an explosive vessel in the following cases:

* * * * *

(b) When an explosive vessel is carrying quantities of explosives above the maximum mentioned in paragraph (a), no Seaway Explosives Permission Letter shall be granted and the vessel shall not transit.

(c) A written application for a Seaway Explosives Permission Letter certifying that the cargo is packed, marked, and stowed in accordance with the Canadian Regulations respecting the Carriage of Dangerous Goods, the United States Regulations under the Dangerous Cargo Act and the International Maritime Dangerous Goods Code may be made to the Saint Lawrence Seaway Development Corporation, P.O. Box 520, Massena, New York 13662 or to the St. Lawrence Seaway Management Corporation, 202 Pitt Street, Cornwall, Ontario, K6J 3P7.

(d) A signed copy of a Seaway Explosives Permission Letter and a true copy of any certificate as to the loading of dangerous cargo shall be kept on board every explosive vessel in transit and shall be made available to any officer requiring production of such copies.

* * * * *

10. § 401.70 will be revised to read as follows:

§ 401.70 Fendering—explosive and hazardous cargo vessels.

All explosive vessels requiring a Seaway Explosives Permission Letter in accordance with § 401.68 and all tankers carrying cargo with a flashpoint of up to 61 °C, except those carrying such cargo in center tanks with gas free wing tanks, shall be equipped with a sufficient number of non-metallic fenders on each side to prevent any metallic part of the vessel from touching the side of a dock or lock wall.

11. In § 401.72 paragraph (b) will be revised to read as follows:

§ 401.72 Reporting—explosive and hazardous cargo vessels.

* * * * *

(b) Every explosive vessel requiring a Seaway Explosives Permission Letter shall, when reporting in, give the number of its Seaway Explosives Permission Letter.

* * * * *

12. In § 401.93 paragraph (b) will be revised to read as follows:

§ 401.93 Access to Seaway property.

* * * * *

(b) Except as authorized by an officer or by the Seaway Property Regulations or its successors, no person shall enter upon any land or structure of the Manager or the Corporation or in any Seaway canal or lock area.

Issued at Washington, DC on November 27, 2006.
Saint Lawrence Seaway Development Corporation.
Collister, Johnson, Jr.,
Administrator.

[FR Doc. E6-20371 Filed 12-1-06; 8:45 am]

BILLING CODE 4910-61-P